DEPARTMENT OF COMMERCE

National Oceanic and Atmospheric Administration

RIN 0648-XD102

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in February 2014. The intent of this meeting is to discuss issues of relevance to the Councils, including budget allocations for FY 2014 and budget planning for FY 2015 and beyond, FY 2014 Priorities, update from the Marine Fisheries Advisory Committee Endangered Species Act work group report and the seafood certification process, fisheries allocation, national science program review, electronic monitoring workshop report, Magnuson-Stevens Fishery Conservation and Management Act (MSA) reauthoization, National Fish Habitat Partnership Board`s consideration of habitat in the fishery management process, and other topics related to implementation of the MSA.

DATES: The meeting will begin at 9 a.m. on Wednesday, February 19, 2014, recess at 5:30 p.m. or when business is complete; and reconvene at 9 a.m. on Thursday, February 20, 2014, and adjourn by 4:30 p.m. or when business is complete.

ADDRESSES: The meeting will be held at the Holiday Inn Capitol Hill, 550 C Street SW., Washington, DC 20024, telephone 202-479-4000, fax 202-288-4627.

FOR FURTHER INFORMATION CONTACT: William D. Chappell: telephone 301-427-8505 or email at William.Chappell@noaa.gov; or Tara Scott: telephone 301-427-8505 or email at Tara.Scott@noaa.gov.

SUPPLEMENTARY INFORMATION: The Magnuson-Stevens Fishery Conservation and Management Reauthorization Act (MSRA) of 2006 established the Council Coordination Committee (CCC) by amending Section 302 (16 U.S.C. 1852) of the MSA. The committee consists of the chairs, vice chairs, and executive directors of each of the eight Regional Fishery Management Councils authorized by the MSA or other Council members or staff. NMFS will host this meeting and provide reports to the CCC for its information and discussion. All sessions are open to the public.

Proposed Agenda

Wednesday, February 19, 2014

9 a.m.—Morning Session Begins

9:00- 9:35 Welcome and Introductions

9:35-10:05 NMFS Updates

• NMFS FY14 Priorities

• National Standard One

• National Environmental Protection Act

• Inspector General Report

10:05-10:20 Break

10:20-11:00 Council Report Round Robin

11:00-12:00 Management and Budget Update

• FY 2014: Status, Council Funding

• FY 2015: Update

• Budget Outlook

• FY 2015 and Beyond—Management and Administration Cost

12 p.m.—Lunch

1:30 p.m.—Afternoon Session Begins

1:30-2:15 Councils/Marine Fisheries Advisory Committee Endangered Species Act (ESA) Working Group update

2:15-3:15 Councils/Marine Fisheries Advisory Committee Seafood Certification Process

3:15-3:30 Break

3:30-4:30 Fisheries Allocation

• National SSC Tasking

• Next Steps

4:30-5:30 National Science Programs Review

5:30—Adjourn for the day

Thursday, February 20, 2014

9 a.m.—Morning Session Begins

9:00-10:00 Electronic Monitoring Workshop Report

10:00 -10:15 Break

10:15-11:00 Revision of Operational Guidelines

11:00-12:00 Revisions to CCC Terms of Reference

• Creating a National SSC

12 p.m.—Lunch

1:30 p.m.—Afternoon Session Begins

1:30-2:30 MSA Reauthorization

• Hill Activity

• HNR Committee Discussion Draft Bill

• Follow up from October CCC Webinar/Next Steps

2:30-2:45 Break

2:45-3:45 National Fish Habitat Partnership Board Considering Habitat in the Fishery Management Process

3:45-4: 30 Other Business

4:30 p.m.—Adjourn.

The order in which the agenda items are addressed may change. The CCC will meet as late as necessary to complete scheduled business.

Special Accommodations

This meeting is physically accessible to people with disabilities. Requests for sign language interpretation or other auxiliary aids should be directed to Tara Scott at 301-427-8505 at least five working days prior to the meeting.

Dated: January 27, 2014.
Alan Risenhoover,
Director, Office of Sustainable Fisheries, National Marine Fisheries Service.

[FR Doc. 2014-02074 Filed 1-30-14; 8:45 am]

BILLING CODE 3510-22-P